NUCLEAR REGULATORY COMMISSION

[NRC-2010-0280]

Biweekly Notice Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 29, 2010 to August 11, 2010. The last biweekly notice was published on August 10, 2010 (75 FR 48370).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Exelon Generation Company, LLC, Docket Nos. 50-352 and 50-353, Limerick Generating Station, Units 1 and 2, Montgomery County, Pennsylvania

Date of amendment request: June 30, 2010.

Description of amendment request: The proposed change would revise the Technical Specification (TS) High Pressure Coolant Injection (HPCI) Equipment Room Delta Temperature High Trip Setpoint and Allowable Value listed in Table 3.3.2-2, Isolation Actuation Instrumentation Setpoints, Item 4e, for Limerick Generating Station (LGS), Units 1 and 2. The Trip Setpoint and Allowable Values are proposed to be lowered, which is in the conservative direction, to reflect a revised analysis for the HPCI equipment room temperature following a postulated 25 gallon per minute steam leak. The revised analysis was performed in September 2009. LGS Licensee Event Report number 2009-003-00, “Both Isolation Actuation Instrument Channels Inoperable” (Agencywide Documents Access and Management System (ADAMS) Accession No. ML092990404), submitted on October 26, 2009, provides more details on the reason for completing the revised analysis.

Basis for proposed no significant hazards consideration determination: As required by 10 CFR 50.91(a), the licensee has provided its analysis of the issue of no significant hazards consideration, which is presented below with NRC edits in brackets:

1. Does the proposed amendment involve a significant increase in the probability or consequences of an accident previously evaluated?

Response: No.

The proposed changes to lower the Technical Specification (TS) High Pressure Coolant Injection (HPCI) Equipment Room Delta Temperature High Isolation Trip Setpoint from ≤126 degrees [Fahrenheit] F to ≤104 degrees F and lower the corresponding Allowable Value (AV) from ≤130.5 degrees F to ≤108.5 degrees F do not significantly increase the probability or consequences of an accident previously evaluated. A reanalysis of the steam leak model for HPCI equipment room has identified that a 25 gallons per minute (gpm) steam leak may not have been isolated on HPCI equipment room high differential temperature with the existing temperature indicating switch setpoints in all plant conditions. Lowering the non-conservative TS Trip Setpoint to 104 degrees F will decrease the consequence of a 25 gpm HPCI steam line leak outside primary containment within the HPCI room by ensuring it is isolated. The value of 104 degrees F is set high enough to ensure that a premature isolation of the HPCI System following a Loss of Coolant Accident does not occur. The environmental qualification of required equipment in the HPCI rooms is not affected by the proposed lowered isolation trip setpoint. The proposed setpoint change [ensures that a 25 gpm steam leak is isolated prior to exceeding the integrated mass release of the bounding analysis] described in the Limerick Updated Final Safety Analysis [R]eport (UFSAR) Section 15.6.4, “Steam System Piping Break Outside Primary Containment.”

Therefore, the proposed changes do not involve a significant increase in the probability or consequences of an accident previously evaluated.

2. Does the proposed amendment create the possibility of a new or different kind of accident from any accident previously evaluated?

Response: No.

The proposed changes to lower the TS HPCI Equipment Room Delta Temperature High Isolation Trip Setpoint from ≤126 degrees F to ≤104 degrees F and lower the corresponding AV from ≤130.5 degrees F to ≤108.5 degrees F do not create the possibility of a new or different kind of accident from any accident previously evaluated. The proposed changes do not add or remove equipment. The proposed changes are limited to an instrument setpoint change to an existing temperature indicating switch within the Steam Leak Detection System. The Steam Leak Detection System is a mitigating system; changes to its instrumentation setpoints do not introduce any new accident initiators, nor do they reduce or adversely affect the capabilities of any plant structure, system, or component to perform their safety function. The physical establishment and setting of the proposed setpoint of the accident mitigation instruments will have no direct impact on the plant's normal operating conditions. The instrumentation is normally in a monitoring mode and does not actively support normal plant operation. No new failure modes are being introduced by the proposed changes and the Steam Leak Detection System will continue to be operated in the same manner.

Therefore, the proposed changes do not create the possibility of a new or different kind of accident from any accident previously evaluated.

3. Does the proposed amendment involve a significant reduction in a margin of safety?

Response: No.

The proposed changes to lower the TS HPCI Equipment Room Delta Temperature High Isolation Trip Setpoint from ≤126 degrees F to ≤104 degrees F and lower the corresponding AV from ≤130.5 degrees F to ≤108.5 degrees F do not involve a significant reduction in a margin of safety. The lower trip setpoint will ensure that a 25 gpm leak in the HPCI steam line will be isolated on HPCI equipment room high differential temperature. The proposed system isolation TS trip setpoint was selected to provide equivalent margins that ensure the effectiveness of the Steam Leak Detection System isolation system to mitigate the consequences of an accident without compromising the operability of the HPCI System. The proposed trip setpoint and proposed allowable value range maintain adequate margins between these new values and the operating range of the HPCI System in order to prevent the inadvertent actuation of the Steam Leak Detection System isolation system and the loss of the HPCI System. The same difference of 4.5 degrees F between the existing trip setpoint and AV values and the proposed trip setpoint and AV values is being maintained as an allowance for instrument drift. The trip setpoint and the AV range is within the specified range of the instruments and therefore, the accuracy and drift provides the same margin of safety as previously assumed.

Therefore, the proposed changes do not involve a significant reduction in a margin of safety.

The NRC staff has reviewed the licensee's analysis and, based on this review it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

Indiana Michigan Power Company (the licensee), Docket No. 50-315 and 50-316, Donald C. Cook Nuclear Plant (CNP), Units 1 and 2, Berrien County, Michigan

Date of amendment request: June 22, 2010.

Description of amendment request: The proposed amendment would modify the Technical Specifications, Surveillance Requirement (SR) 3.6.6.5, regarding containment spray nozzles. Currently SR 3.6.6.5 requires that the nozzles be verified to be unobstructed every 10 years. The licensee proposed to change the frequency to be event-based, specifically, “following maintenance that could result in nozzle blockage.”

Basis for proposed no significant hazards consideration determination: As required by 10 CFR 50.91(a), the licensee has provided its analysis of the issue of no significant hazards consideration. The NRC staff performed its own analysis, which is presented below:

(1) Does the proposed change involve a significant increase in the probability of occurrence or consequences of an accident previously evaluated?

Response: No.

The containment spray system and its spray nozzles were not identified as accident initiators in previously evaluated accidents; thus, the proposed change, which affects only the surveillance frequency of spray nozzles, cannot and do not have any effect on the probability of occurrence of an accident. In addition, since no design function of the containment spray system, including the nozzles, would be altered by the proposed change of the surveillance frequency, the containment spray system will continue to perform its original design function, mitigating the consequences of certain accidents previously evaluated. Thus, the consequences of accidents previously evaluated will not be significantly increased.

(2) Does the proposed change create the possibility of a new or different kind of accident from any accident previously evaluated?

Response: No.

The proposed change does not introduce a new mode of plant operation and does not involve physical modification to plant design. Thus, the proposed change does not involve the possibility of introducing any new accident initiators to affect assumptions made in previously evaluated accidents. The containment spray system will continue to function as originally designed and installed. Therefore, the proposed change does not create the possibility of a new or different kind of accident from any previously evaluated.

(3) Does the proposed change involve a significant reduction in a margin of safety?

Response: No.

The proposed change would only revise containment spray nozzle surveillance frequency but will not reduce a margin of safety because the change has no effect on any safety analysis methods, scenarios, or assumptions. Therefore, the proposed change does not involve a significant reduction in a margin of safety.

Based on the above review, it appears that the three standards of 10 CFR 50.92(c) are satisfied. Therefore, the NRC staff proposes to determine that the proposed amendment involves no significant hazards consideration.

Attorney for licensee: James M. Petro, Jr., Senior Nuclear Counsel, Indiana Michigan Power Company, One Cook Place, Bridgman, MI 49106.

NRC Branch Chief: Robert J. Pascarelli.

Southern Nuclear Operating Company, Inc. (SNC), Docket Nos. 50-424 and 50-425, Vogtle Electric Generating Plant (VEGP), Units 1 and 2, Burke County, Georgia

Date of amendment request: June 15, 2010.

Description of amendment request: The proposed amendments request the adoption of an approved change to the standard technical specifications (STS) for Westinghouse Plants (NUREG-1431), to allow relocation of specific TS surveillance frequencies to a licensee-controlled program. The proposed change is described in Technical Specification Task Force (TSTF) Traveler, TSTF-425, Revision 3, “Relocate Surveillance Frequencies to Licensee Control—RITSTF Initiative 5b.” (ADAMS Accession No. ML080280275) and was described in the Notice of Availability published in the Federal Register on July 6, 2009 (74 FR 31996). The proposed changes are consistent with NRC-approved TSTF-425, Revision 3. The proposed change relocates surveillance frequencies to a licensee-controlled program, the surveillance frequency control program (SFCP). This change is applicable to licensees using probabilistic risk guidelines contained in NRC-approved NEI 04-10, “Risk-Informed Technical Specifications Initiative 5b, Risk-Informed Method for Control of Surveillance Frequencies,” (ADAMS Accession No. ML071360456).

The licensee affirmed the applicability to the VEGP of the model no significant hazards consideration (NSHC) determination provided in the Federal Register on July 6, 2009 (74 FR 31996) in its application dated June 15, 2010.

Basis for proposed no significant hazards consideration determination: As required by 10 CFR 50.91(a), the analysis of the issue of no significant hazards consideration is presented below:

1. Does the proposed change involve a significant increase in the probability or consequences of an accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the Technical Specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Does the proposed change create the possibility of a new or different kind of accident from any accident previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, SNC will perform a probabilistic risk evaluation using the guidance contained in NRC-approved NEI 04-10, Rev. 1 in accordance with the TS SFCP. NEI 04-10, Rev. 1 methodology provides reasonable acceptance guidelines and methods for evaluating the risk increase of proposed change to surveillance frequencies consistent with Regulatory Guide 1.177.

Therefore, the proposed changes do not involve a significant reduction in a margin of safety.

The NRC staff proposes to determine that the amendment request involves no significant hazards consideration.

Attorney for licensee: Mr. Arthur H. Domby, Troutman Sanders, NationsBank Plaza, Suite 5200, 600 Peachtree Street, NE., Atlanta, Georgia 30308-2216.

NRC Branch Chief: Gloria J. Kulesa.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, and PSEG Nuclear, LLC, Docket No. 50-277, Peach Bottom Atomic Power Station (PBAPS), Unit 2, York and Lancaster Counties, Pennsylvania

Date of application for amendments: May 27, 2010.

Brief description of amendment request: The proposed amendment would modify the PBAPS, Unit 2, Technical Specification Section 2.1.1 to revise Safety Limit Minimum Critical Power Ratio values.

Date of publication of individual notice in Federal Register: July 26, 2010 (FR 75 43574).

Expiration date of individual notice: August 25, 2010 (public comments) and September 24, 2010 (hearing requests).

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management System (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Duke Energy Carolinas, LLC, et al., Docket Nos. 50-413 and 50-414, Catawba Nuclear Station, Units 1 and 2, York County, South Carolina

Date of application for amendments: July 1, 2009, as supplemented by letter dated May 20, 2010.

Brief description of amendments: The amendments revised the Technical Specification (TS) 3.3.1, “Reactor Trip System (RTS) Instrumentation” and TS 1.1, “Definitions.” The amendments support plant modifications which would replace the existing source range and intermediate range excore detector systems with equivalent neutron monitoring systems. The new instrumentation will perform both the source range and intermediate range monitoring functions.

Date of issuance: August 2, 2010.

Effective date: As of the date of issuance and shall be implemented within 60 days from the date of issuance.

Amendment Nos.: 258 and 253.

Facility Operating License Nos. NPF-35 and NPF-52: Amendments revised the licenses and the TSs.

Date of initial notice in in Federal Register: March 9, 2010 (75 FR 10826). The supplement dated May 20, 2010, provided additional information that clarified the application, did not expand the scope of the application as originally noticed, and did not change the staff's original proposed no significant hazards consideration determination.

The Commission's related evaluation of the amendments is contained in a Safety Evaluation dated August 2, 2010.

No significant hazards consideration comments received: No.

Duke Energy Carolinas, LLC, et al., Docket Nos. 50-413 and 50-414, Catawba Nuclear Station, Units 1 and 2, York County, South Carolina

Date of application for amendments: October 29, 2009.

Brief description of amendments: The amendments deleted a license condition located in each of the unit's Renewed Facility Operating Licenses which restricts the maximum fuel rod average burnup. Deletion of this condition would allow the maximum fuel rod average burnup up to increase.

Date of issuance: August 5, 2010.

Effective date: As of the date of issuance and shall be implemented within 30 days from the date of issuance.

Amendment Nos.: 259 and 254.

Renewed Facility Operating License Nos. NPF-35 and NPF-52: Amendments revised the licenses.

Date of initial notice in Federal Register: April 6, 2010 (75 FR 17441).

The Commission's related evaluation of the amendments is contained in a Safety Evaluation dated August 5, 2010.

No significant hazards consideration comments received: No.

Duke Energy Carolinas, LLC, et al., Docket Nos. 50-413 and 50-414, Catawba Nuclear Station, Units 1 and 2, York County, South Carolina

Date of application for amendments: September 3, 2009.

Brief description of amendments: The amendments revised the Technical Specification (TS) Section 3.7.10, “Control Room Area Ventilation System (CRAVS),” to allow movement of irradiated fuel with only one CRAVS train OPERABLE.

Date of issuance: August 9, 2010.

Effective date: As of the date of issuance and shall be implemented within 30 days from the date of issuance.

Amendment Nos.: 260 and 255.

Renewed Facility Operating License Nos. NPF-35 and NPF-52: Amendments revised the licenses and the TSs.

Date of initial no tice in Federal Register: June 1, 2010 (75 FR 30444).

The Commission's related evaluation of the amendments is contained in a Safety Evaluation dated August 9, 2010.

No significant hazards consideration comments received: No.

Duke Power Company LLC, Docket Nos. 50-369 and 50-370, McGuire Nuclear Station, Units 1 and 2, Mecklenburg County, North Carolina

Date of application for amendments: July 1, 2009, as supplemented by letter dated May 20, 2010.

Brief description of amendments: The amendments revised the Technical Specification (TS) 3.3.1, “Reactor Trip System (RTS) Instrumentation.” The amendments support plant modifications which would replace the existing source range and intermediate range excore detector systems with equivalent neutron monitoring systems. The new instrumentation will perform both the source range and intermediate range monitoring functions.

Date of issuance: August 2, 2010.

Effective date: As of the date of issuance and shall be implemented within 60 days from the date of issuance.

Amendment Nos.: 257 and 237.

Renewed Facility Operating License Nos. NPF-9 and NPF-17: Amendments revised the licenses and the TSs.

Date of initial notice in Federal Register: March 9, 2010 (75 FR 10826). The supplement dated May 20, 2010, provided additional information that clarified the application, did not expand the scope of the application as originally noticed, and did not change the staff's original proposed no significant hazards consideration determination.

The Commission's related evaluation of the amendments is contained in a Safety Evaluation dated August 2, 2010.

No significant hazards consideration comments received: No.

Duke Power Company LLC, Docket Nos. 50-369 and 50-370, McGuire Nuclear Station, Units 1 and 2, Mecklenburg County, North Carolina

Date of application for amendments: October 29, 2009.

Brief description of amendments: The amendments deleted a license condition located in each of the unit's Renewed Facility Operating Licenses which restricts the maximum fuel rod average burnup. Deletion of this condition would allow the maximum fuel rod average burnup up to increase.

Date of issuance: August 5, 2010.

Effective date: As of the date of issuance and shall be implemented within 30 days from the date of issuance.

Amendment Nos.: 258 and 238.

Renewed Facility Operating License Nos. NPF-9 and NPF-17: Amendments revised the licenses.

Date of initial notice in Federal Register: April 6, 2010 (75 FR 17441).

The Commission's related evaluation of the amendments is contained in a Safety Evaluation dated August 5, 2010.

No significant hazards consideration comments received: No.

Exelon Generation Company, LLC, and PSEG Nuclear, LLC, Docket Nos. 50-277 and 50-278, Peach Bottom Atomic Power Station (PBAPS), Units 2 and 3, York and Lancaster Counties, Pennsylvania

Date of application for amendments: August 7, 2008, as supplemented on May 7, 2009, and January 19, 2010.

Brief description of amendments: The August 7, 2008, submittal contained several areas of review that have been dispositioned as separate amendment requests. The amendments associated with this notice revise the PBAPS Units 2 and 3 Technical Specifications (TS) to incorporate Technical Specification Task Force (TSTF) Traveler 439, “Elimination of Second Completion Times Limiting Time From Discovery of Failure To Meet an LCO [Limiting Condition for Operation],” Revision 2. The TS amendments modify Section 1.3 of the PBAPS Unit 2 and 3 TSs to alter the discussion contained in Example 1.3-3 to eliminate second completion times. Consistent with this change, the second completion times associated with TS 3.1.7, “Standby Liquid Control (SLC) System,” required actions A.2 and B.1, TS 3.8.1, “AC Sources—Operating,” required action A.3, and TS 3.8.7, “Distribution Systems—Operating,” required actions C.1 and D.1 are also deleted.

Date of issuance: July 30, 2010.

Effective date: As of the date of issuance and shall be implemented within 60 days from the date of issuance.

Amendment Nos.: 277 and 280.

Renewed Facility Operating License Nos. DPR-44 and DPR-56: Amendments revised the License and Technical Specifications.

Date of initial notice in Federal Register: May 5, 2009 (74 FR 20744).

The supplements dated May 7, 2009, and January 19, 2010, clarified the application, did not expand the scope of the application as originally noticed, and did not change the initial proposed no significant hazards consideration determination.

The Commission's related evaluation of the amendments is contained in a Safety Evaluation dated July 30, 2010.

No significant hazards consideration comments received: No.

Pacific Gas and Electric Company, Docket Nos. 50-275 and 50-323, Diablo Canyon Nuclear Power Plant, Unit Nos. 1 and 2, San Luis Obispo County, California

Date of application for amendments: December 14, 2009, as supplemented by letters dated April 23, June 11, and July 2, 2010.

Brief description of amendments: The amendments approved the licensee's request to incorporate a revision to the Final Safety Analyses Report Update Section 3.7.1.3 to allow for the use of a damping value of 5 percent of the critical damping value for the structural dynamic qualification of the control rod drive mechanism pressure housings on the replacement reactor vessel head for the design earthquake, the double design earthquake, the Hosgri earthquake, and the loss-of-coolant accident loading conditions.

Date of issuance: July 30, 2010.

Effective date: As of its date of issuance and shall be implemented within 180 days from the date of issuance.

Amendment Nos.: Unit 1-207; Unit 2-209.

Facility Operating License Nos. DPR-80 and DPR-82: The amendments revised the Facility Operating Licenses and Technical Specifications.

Date of initial notice in Federal Register: March 23, 2010 (75 FR 13790). The supplemental letters dated April 23, June 11, and July 2, 2010, provided additional information that clarified the application, did not expand the scope of the application as originally noticed, and did not change the staff's original proposed no significant hazards consideration determination as published in the Federal Register.

The Commission's related evaluation of the amendments is contained in a Safety Evaluation dated July 30, 2010.

No significant hazards consideration comments received: No.

Dated at Rockville, Maryland, this 13th day of August 2010.
For The Nuclear Regulatory Commission.
Robert A. Nelson,
Deputy Director, Division of Operating Reactor Licensing, Office of Nuclear Reactor Regulation.

[FR Doc. 2010-20694 Filed 8-23-10; 8:45 am]

BILLING CODE 7590-01-P